GENERAL SERVICES ADMINISTRATION

Office of Communications/Department of Defense; Construction Cancellation of Stocked Standard Form

AGENCY: General Services Administration.

ACTION: Notice.

SUMMARY: Because of low usage the 4-part continuous, carbon interleave set construction of the following Standard Form is cancelled: SF 153, COMSEC Material Report (NSN 7540-00-935-5861).

The 4-part continuous feed, chemical transfer paper set version (identified by NSN 7540-00-935-5860) of this form is still available from FSS.

DATES: Effective November 9, 2000.

FOR FURTHER INFORMATION CONTACT: Ms. Barbara Williams, General Services Administration, (202) 501-0581.

Dated: October 17, 2000.
Barbara M. Williams,
Deputy, Standard and Optional Forms Management Officer.

[FR Doc. 00-28724 Filed 11-8-00; 8:45 am]

BILLING CODE 6820-34-M